DEPARTMENT OF STATE

Public Notice #3468]

U.S. Advisory Commission on Public Diplomacy; Notice of Meeting

The U.S. Advisory Commission on Public Diplomacy, reauthorized pursuant to Public Law 106-113 (H.R. 3194, Consolidated Appropriations Act, 2000), will meet on Tuesday, December 12, 2000 in Room 600, 301 4th St., SW, Washington, DC, from 9:30 a.m. to 12 noon.

The Commission will discuss follow-up to its report, the Smith-Mundt Act, plans for a trip to the Far East, and U.S. government exchanges.

Members of the general public may attend the meeting, though attendance of public members will be limited to the seating available. Access to the building is controlled, and individual building passes are required for all attendees. Persons who plan to attend should contact David J. Kramer, Executive Director, at (202) 619-4463.

Dated: November 15, 2000.
David J. Kramer,
Executive Director, U.S. Advisory Commission on Public Diplomacy.

[FR Doc. 00-30021 Filed 11-22-00; 8:45 am]

BILLING CODE 4710-11-U